DEPARTMENT OF THE INTERIOR

National Park Service

Notice of Inventory Completion: U.S. Department of the Interior, National Park Service, Guadalupe Mountains National Park, Salt Flat, TX

AGENCY: National Park Service, Interior.

ACTION: Notice.

SUMMARY: Pursuant to the Native American Graves Protection and Repatriation Act (NAGPRA), the U.S. Department of the Interior, National Park Service, Guadalupe Mountains National Park, Salt Flat, TX (the Federal agency that has control of the cultural items), determined that the physical remains of 10 individuals of Native American ancestry in Guadalupe Mountains National Park's collections, described below in Information about cultural items, are culturally unidentifiable. The Native American Graves Protection and Repatriation Review Committee (Review Committee) recommended that Guadalupe Mountains National Park repatriate the human remains to the Apache Tribe of Oklahoma; Comanche Nation, Oklahoma; Fort Sill Apache Tribe of Oklahoma; Hopi Tribe of Arizona; Jicarilla Apache Nation, New Mexico; Kiowa Indian Tribe of Oklahoma; Mescalero Apache Tribe of the Mescalero Reservation, New Mexico; Pueblo of Isleta, New Mexico; Pueblo of Zia, New Mexico; San Carlos Apache Tribe of the San Carlos Reservation, Arizona; White Mountain Apache Tribe of the Fort Apache Reservation, Arizona; Ysleta del Sur Pueblo of Texas; and Zuni Tribe of the Zuni Reservation, New Mexico.

The National Park Service publishes this notice on behalf of Guadalupe Mountains National Park as part of the National Park Service's administrative responsibilities under NAGPRA. The superintendent of Guadalupe Mountains National Park is solely responsible for information and determinations stated in this notice.

Information about NAGPRA is available online at www.cr.nps.gov/nagpra.

DATES: Repatriation of the cultural items to the Indian tribes listed above in Summary may proceed after December 23, 2004, if no additional claimants come forward. Representatives of any other Indian tribe that believes itself to be culturally affiliated with the cultural items should contact Guadalupe Mountains National Park before December 23, 2004.

SUPPLEMENTARY INFORMATION:

Authority. 25 U.S.C. 3001 et seq. and 43 CFR Part 10.

Contact. Contact John Lujan, Superintendent, Guadalupe Mountains National Park, HC 60, Box 400, Salt Flat, TX 79847-9400, telephone (915) 828-3251, regarding determinations stated in this notice or to claim the cultural items described in this notice.

Consultation. Guadalupe Mountains National Park identified the cultural items and assessed the cultural affiliation of the cultural items in consultation with representatives of the Apache Tribe of Oklahoma; Comanche Nation, Oklahoma; Fort Sill Apache Tribe of Oklahoma; Hopi Tribe of Arizona; Jicarilla Apache Nation, New Mexico; Kiowa Indian Tribe of Oklahoma; Mescalero Apache Tribe of the Mescalero Reservation, New Mexico; Pueblo of Isleta, New Mexico; Pueblo of Zia, New Mexico; San Carlos Apache Tribe of the San Carlos Reservation, Arizona; White Mountain Apache Tribe of the Fort Apache Reservation, Arizona; Ysleta del Sur Pueblo of Texas; and Zuni Tribe of the Zuni Reservation, New Mexico.

Information about cultural items. In 1934-35, human remains representing a minimum of six individuals were removed from Williams Cave in Culberson County, TX. At the time, the land on which Williams Cave is located was privately owned. The excavations were conducted under the auspices of the University Museum of Philadelphia and the Philadelphia Academy of Natural Sciences. Items found at the site indicate the human remains were buried during the Archaic period (3,000 B.C. to A.D. 500). Following the excavation, the human remains from Williams Cave were curated by several institutions, including the Philadelphia Academy of Natural Sciences, Carlsbad Municipal Museum, and University of Nebraska¯Lincoln. In 1998, the human remains curated by the Carlsbad Municipal Museum and the University of Nebraska-Lincoln were donated to Guadalupe Mountains National Park. No known individuals were identified.

In 1965-67, human remains representing a minimum of four individuals were recovered from Pratt Cave in Culberson County, TX. At the time, the land on which Pratt Cave was located was under Federal jurisdiction. Items found at the site indicate the human remains were buried during the Late Archaic period (600 B.C. to A.D. 500). No known individuals were identified.

On September 30, 1972, the lands on which both Williams Cave and Pratt Cave are located became part of Guadalupe Mountains National Park.

Guadalupe Mountains National Park officials determined that a relationship of shared group identity could not reasonably be traced between the human remains and any present-day Indian tribe.

According to the Review Committee's charter, the Review Committee is responsible for recommending specific actions for disposition of culturally unidentifiable human remains. In December 1998, Guadalupe Mountains National Park requested that the Review Committee recommend repatriation of the 10 culturally unidentifiable human remains to a group of 12 Indian tribes that had requested the human remains and that demonstrated a cultural relationship to the region. The Review Committee considered the proposal at its December 1998 meeting in Santa Fe, NM, and recommended repatriation of the human remains to the 12 Indian tribes. A May 25, 1999, letter from the Departmental Consulting Archeologist on behalf of the chair of the Review Committee to the superintendent of Guadalupe Mountains National Park summarized the Review Committee's consideration of the park's request and transmitted the Review Committee's recommendation that the park repatriate the human remains to all the tribes listed above in Summary except the Pueblo of Isleta, New Mexico, which did not join the consultation until after the Review Committee's December 1998 meeting

In 2000, the human remains from the 1934-35 Williams Cave excavations that were curated by the Philadelphia Academy of Natural Sciences were donated to Guadalupe Mountains National Park. The fragmentary human remains had been cataloged in Philadelphia as part of the paleontological collections and were not included in the December 1998 repatriation request to the NAGPRA Review Committee. Based on documentation from the 1934-35 excavations, it is believed that the fragmentary human remains represent some of the six individuals removed during the 1934-35 excavations.

In November 2000, the superintendent of Guadalupe Mountains National Park requested that the Review Committee recommend repatriation of the culturally unidentifiable human remains donated to the park by the Philadelphia Academy of Natural Sciences to a group of 13 Indian tribes that had requested the human remains and that demonstrated a cultural relationship to the region. The Review Committee considered the request at its December 2000 meeting in Nashville, TN, and recommended repatriation of the human remains to the 13 Indian tribes. A February 15, 2001, letter from the Assistant Director, Cultural Resources on behalf of the chair of the Review Committee to the superintendent of Guadalupe Mountains National Park summarized the Review Committee's consideration of the park's request and transmitted the Review Committee's recommendation that the park repatriate the human remains to the tribes listed above in Summary.

In 2001, an additional human bone was discovered in the Guadalupe Mountains National Park collection during a review of cataloged mammal bones. This bone was originally collected from Pratt Cave in 1967 and is believed to represent one of the individuals previously considered by the Review Committee.

Disposition of funerary objects associated with culturally unidentifiable human remains is not addressed by the Native American Graves Protection and Repatriation Act and no associated funerary objects are included in this notice.

Determinations. Under 25 U.S.C. 3003, Guadalupe Mountains National Park officials determined that the human remains represent the physical remains of 10 individuals of Native American ancestry. Guadalupe Mountains National Park officials determined that the human remains are culturally unidentifiable.

Notification. Guadalupe Mountains National Park is responsible for sending copies of this notice to the Indian tribes listed above in Consultation.

Dated: September 28, 2004
Sherry Hutt,
Manager, National NAGPRA program

[FR Doc. 04-25922 Filed 11-22-04; 8:45 am]

BILLING CODE 4312-50-S